FEDERAL MARITIME COMMISSION

Ocean Transportation Intermediary License Applicants

Notice is hereby given that the following applicants have been filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicant:

LOA Int'l (USA) Transport Co., Inc., dba LOA Container Line, 721 Brea Canyon Road, Suite 3, Walnut, CA 91789, Officer: Charster Lou, President (Qualifying Individual).

Non-Vessel Operating Common Carrier and Ocean Freight Forwarder Transportation Intermediary Applicant:

Orion Logistics Inc., 9688 Fontainebleau Blvd., #509, Miami, FL 33172, Officer: Jose Alejandro Carbonell, President (Qualifying Individual).

Ocean Freight Forwarder—Ocean Transportation Intermediary Applicant:

Sunjin Shipping (U.S.A.), Inc., 145-63 226th Street, Springfield Gardens, NY 11413, Officers: Key Y. Chung, President (Qualifying Individual), Soon Kim, Secretary.

Dated: December 14, 2001.
Bryant L. VanBrakle,
Secretary.

[FR Doc. 01-31291 Filed 12-19-01; 8:45 am]

BILLING CODE 6730-01-P